DEPARTMENT OF JUSTICE

Office of the Attorney General

28 CFR Part 0

[Docket No. JMD 163; AG Order No. 6145-2025]

Office of the Executive Secretariat

AGENCY: Department of Justice.

ACTION: Final rule.

SUMMARY: This rule amends the Department's organizational regulations to establish the functions of the Office of the Executive Secretariat.

DATES: Effective January 17, 2025.

FOR FURTHER INFORMATION CONTACT: Adam Kirschner, Chief of Staff and Senior Counsel, Office of the Executive Secretariat, adam.kirschner@usdoj.gov or DOJExecSec@usdoj.gov, (202) 514-2063.

SUPPLEMENTARY INFORMATION:

I. Summary

The Office of the Executive Secretariat (OES), headed by the Executive Secretary, was established as a separate component of the Department of Justice on August 17, 2023. OES's functions were previously performed by a staff within the Justice Management Division. As a standalone component, OES's functions, which broadly relate to managing the review and approval of official Department of Justice leadership documents and correspondence, are set forth in this regulation. This rule also revises 28 CFR 0.1 to add the Office of the Executive Secretariat to the list of Department components.

II. Administrative Procedure Act

This rule is a rule of agency organization, procedure, and practice and is limited to matters of agency management and personnel, and it is not a substantive rule. Therefore, this rule is exempt from the requirements of prior notice and comment and a 30-day delay in the effective date. See 5 U.S.C. 553(a)(2), (b)(A), (d).

III. Regulatory Analyses

In developing this final rule, the Department considered numerous statutes and executive orders applicable to the rulemaking process. The Department's analysis of the applicability of those statutes and Executive orders to this rule is summarized below.

A. Executive Order 12866 (Regulatory Planning and Review), Executive Order 13563 (Improving Regulation and Regulatory Review), and Executive Order 14094 (Modernizing Regulatory Review)

This final rule is not a significant regulatory action under section 3(f) of Executive Order 12866, as supplemented by Executive Order 13563 and amended by Executive Order 14094. This rule is limited to agency organization, management, and personnel as described by Executive Order 12866, section 3(d)(3), and therefore is not a “regulation” or “rule” as defined by that Executive order. Accordingly, this action has not been reviewed by the Office of Management and Budget.

B. Regulatory Flexibility Act

The Regulatory Flexibility Act of 1980, 5 U.S.C. 601-12, as amended, requires Federal agencies to consider the potential impact of regulations on small entities during rulemaking. The term “small entities” comprises small businesses, not-for-profit organizations that are independently owned and operated and are not dominant in their fields, and governmental jurisdictions with populations of less than 50,000. 5 U.S.C. 601.

A Regulatory Flexibility Analysis was not required to be prepared for this final rule because the Department was not required to publish a general notice of proposed rulemaking for this matter. 5 U.S.C. 603-604.

C. Paperwork Reduction Act

This final rule does not call for a new or revised collection of information under the Paperwork Reduction Act of 1995, 44 U.S.C. 3501-3521.

D. Executive Order 13132 (Federalism)

A rule has federalism implications under Executive Order 13132 if it has a substantial direct effect on the States, on the relationship between the National Government and the States, or on the distribution of power and responsibilities among the various levels of government. E.O. 13132, sec. 1(a). The Department has analyzed this final rule under that order and determined that this rule does not have federalism implications.

E. Unfunded Mandates Reform Act of 1995

The Unfunded Mandates Reform Act of 1995, 2 U.S.C. 1531-1538, requires Federal agencies to determine whether a rule, if promulgated, will result in the expenditure by State, local, or Tribal governments, in the aggregate, or by the private sector, of $100 million (adjusted annually for inflation) or more in any one year. 2 U.S.C. 1532(a). This final rule does not require or result in expenditures by any of the above-named entities.

F. Executive Order 12988 (Civil Justice Reform), Plain Language

This final rule meets applicable standards in sections 3(a) and 3(b)(2) of Executive Order 12988.

G. Executive Order 13175 (Consultation and Coordination With Indian Tribal Governments)

This final rule does not have Tribal implications under Executive Order 13175 because it would not have a substantial direct effect on one or more Indian Tribes, on the relationship between the Federal Government and Indian Tribes, or on the distribution of power and responsibilities between the Federal Government and Indian Tribes.

H. Congressional Review Act

This rule relates to agency management, personnel, and organization, and does not substantially affect the rights or obligations of non-agency parties. 5 U.S.C. 804(3)(B), (C). This action is accordingly not a “rule” as that term is used in the Congressional Review Act, see 5 U.S.C. 804(3), and the reporting requirement of 5 U.S.C. 801 does not apply.

List of Subjects for 28 CFR Part 0

Authority delegations (Government agencies), Government employees, Organization and functions (Government agencies).

Authority and Issuance

For the reasons stated above, the Department of Justice amends 28 CFR part 0 as follows:

PART 0—ORGANIZATION OF THE DEPARTMENT OF JUSTICE

1. The authority citation for part 0 continues to read as follows:

Authority: 5 U.S.C. 301; 28 U.S.C. 509, 510, 515-519.

2. Revise § 0.1 to read as follows:

§ 0.1 Organizational units.

The Department of Justice shall consist of the following principal organizational units:

Table 1 to § 0.1
Offices:
Office of the Attorney General.
Office of the Deputy Attorney General.
Office of the Associate Attorney General.
Office of the Solicitor General.
Office of Legal Counsel.
Office of Legislative Affairs.
Office of Professional Responsibility.
Office of Legal Policy.
Office of Public Affairs.
Office of the Pardon Attorney.
Office of Special Counsel for Immigration Related Unfair Employment Practices.
Community Relations Service.
Executive Office for Immigration Review.
Executive Office for United States Attorneys.
Executive Office for United States Trustees.
INTERPOL—United States National Central Bureau.
Office of International Programs.
Office of Community Oriented Policing Services.
Office on Violence Against Women.
Office of the Federal Detention Trustee.
Professional Responsibility Advisory Office.
Office of Tribal Justice.
Office for Access to Justice.
Office of the Executive Secretariat.
Divisions:
Antitrust Division.
Civil Division.
Civil Rights Division.
Criminal Division.
Environment and Natural Resources Division.
National Security Division.
Tax Division.
Justice Management Division.
Bureaus:
Federal Bureau of Investigation.
Bureau of Prisons.
Drug Enforcement Administration.
Office of Justice Programs (and related agencies).
United States Marshals Service.
Bureau of Alcohol, Tobacco, Firearms, and Explosives.
Boards:
Board of Immigration Appeals.
U.S. Parole Commission.
Foreign Claims Settlement Commission.

3. Add subpart O-1, consisting of § 0.81, to read as follows:

Subpart O-1—Office of the Executive Secretariat

§ 0.81 Office of the Executive Secretariat.

(a) The Office of the Executive Secretariat is headed by an Executive Secretary. The Executive Secretary is appointed by the Attorney General and reports to the Deputy Attorney General.

(b) The Office of the Executive Secretariat shall:

(1) Ensure that official documents requiring the review, approval, or signature by the Attorney General, Deputy Attorney General, or Associate Attorney General are assigned, tracked, and cleared within the Department of Justice, as appropriate.

(2) Manage select correspondence within the Department of Justice. Correspondence refers to written communication from Department stakeholders addressed to the Attorney General, Deputy Attorney General, or the Associate Attorney General, or, as appropriate, other leadership within the Department of Justice.

(3) Manage select interagency requests for official approval or concurrence by the Attorney General, Deputy Attorney General, or Associate Attorney General; Departmental clearances; and submissions from other agencies for review within the Department of Justice.

(4) Ensure that records maintained by the Office of the Executive Secretariat are managed and preserved in accordance with applicable statutes, regulations, and policies, including but not limited to the Federal Records Act, Privacy Act of 1974, Freedom of Information Act, and U.S. National Archives and Records Administration-approved records schedules.

(5) Perform such other duties and assignments as directed by the Attorney General or the Deputy Attorney General.

Dated: January 14, 2025.
Merrick B. Garland,
Attorney General.

[FR Doc. 2025-01338 Filed 1-16-25; 8:45 am]

BILLING CODE 4410-PR-P